DEPARTMENT OF ENERGY

Federal Energy Regulatory Commission

Notice of Technical Conference

Filing Requirements for El. Utility S.A | Docket Nos. RM01-8-000
Electricity Market Transparency Provisions of Section 220 of the Federal Power Act | Docket Nos. RM10-12-000
Revisions to Electric Quarterly Report Filing Process | Docket Nos. RM12-3-000
Revised Public Utility Filing Requirements for Electric Quarterly Reports | Docket Nos. ER02-2001-000

Take notice that on March 26, 2014, the staff of the Federal Energy Regulatory Commission (Commission) will hold a technical conference on the Revisions to Electric Quarterly Report (EQR) Filing Process. The conference will take place from 10:00 a.m. to 1:00 p.m. (EST), in the Commission Meeting Room at 888 First Street NE., Washington, DC 20426. The public may attend.

Commission staff will demonstrate the new EQR filing system announced in Order No. 770.¹ The new filing system includes two options for filing EQRs: one that will allow EQR users to file through a Web interface on the Commission's Web site, and a second that will allow an EQR filer to file its EQR in an Extensible Mark-up Language formatted file. At the conference, staff will discuss the filing system using examples of both the XML and Web interface approaches that the Commission believes parties will find useful ahead of the new filing system “go-live” date.

¹ Revisions to Electric Quarterly Report Filing Process, Order No. 770, FERC Stats. & Regs. ¶ 31,338 (2012).

Any additional information regarding the agenda for the technical conference will be posted prior to the conference on the Calendar of Events on the Commission's Web site, www.ferc.gov.

A free Webcast of the conference will be available through www.ferc.gov. Anyone with Internet access interested in viewing this conference can do so by navigating to www.ferc.gov's Calendar of Events and locating this event in the Calendar. The event will contain a link to the webcast. Capitol Connection provides technical support for the Webcasts and offers the option of listening to the conferences via phone-bridge for a fee. If you need technical support, please visit www.CapitolConnections.org or call (703) 993-3100.

Participants, either attending in person or on the Webcast, are encouraged to preregister at https://www.ferc.gov/whats-new/registration/03-26-14-form.asp. The Webcasting provides audio service and is archived. Participants may submit questions before or during the event via email to: eqr@ferc.gov. Please specify “EQR Questions for Mar 26 Conference” in the subject line of your emails.

This meeting/conference will be transcribed. Transcripts of the meeting/conference will be immediately available for a fee from Ace-Federal Reporters, Inc. (202-347-3700 or 1-800-336-6646).

Any additional information regarding the agenda for the technical conference will be posted prior to the conference on the Calendar of Events on the Commission's Web site, www.ferc.gov.

For more information about the technical conference, please contact:

Carol B. White, Federal Energy Regulatory Commission, 888 First Street NE., Washington, DC 20426, (202) 502-6338, carol.white@ferc.gov.

Sarah McKinley, Federal Energy Regulatory Commission, 888 First Street NE., Washington, DC 20426, (202) 502-8368, sarah.mckinley@ferc.gov.

Dated: March 4, 2014.
Kimberly D. Bose,
Secretary.

[FR Doc. 2014-05117 Filed 3-7-14; 8:45 am]

BILLING CODE 6717-01-P